DEPARTMENT OF COMMERCE

Census Bureau

Agency Information Collection Activities; Submission to the Office of Management and Budget (OMB) for Review and Approval; Comment Request; Annual Capital Expenditures Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 10, 2020 during a 60-day comment period. This notice allows for an additional 30 days for public comments.

Agency: U.S. Census Bureau.

Title: Annual Capital Expenditures Survey.

OMB Control Number: 0607-0782.

Form Number(s): ACE-1(L), ACE-1(M), ACE-1(S), ACE-2.

Type of Request: Regular submission, Request for a Revision of a Currently Approved Collection.

Number of Respondents: 70,127.

Average Hours per Response: 2.69.

Burden Hours: 188,787.

Needs and Uses: A major concern of economic policymakers is the adequacy of investment in plant and equipment. Data on the amount of business expenditures for new plants and equipment and measures of the stock of existing facilities are critical to evaluating productivity growth, the ability of U.S. business to compete with foreign business, changes in industrial capacity, and overall economic performance. The ACES is the sole source of detailed comprehensive statistics on investment in buildings and other structures, machinery, and equipment by private nonfarm businesses in the United States.

This request is for a revision to the currently approved collection and will cover the 2020 through 2022 ACES (conducted in years 2021 through 2023). Changes from the previous ACES authorization are the collection of content related to the Coronavirus Pandemic, the presence of robotic equipment and investment in robotic equipment by industry segment from employer businesses, and the amount of time it took to complete the nonemployer survey. The detailed capital expenditures data, collected every five years, were collected in the 2017 ACES and will be collected again in the 2022 ACES.

Affected Public: Business or other for-profit organizations.

Frequency: Annually.

Respondent's Obligation: Mandatory.

Legal Authority: Title 13 of the United States Code, Sections 131 and 182. Sections 224 and 225 of Title 13 make this survey mandatory.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0782.

Sheleen Dumas,
Department PRA Clearance Officer, Office of the Chief Information Officer, Commerce Department.

[FR Doc. 2020-27462 Filed 12-11-20; 8:45 am]

BILLING CODE 3510-07-P